ENVIRONMENTAL PROTECTION AGENCY

[ER-FRL-9024-4]

Environmental Impact Statements; Notice of Availability

Responsible Agency: Office of Federal Activities, General Information (202) 564-7146 or http://www2.epa.gov/nepa

Weekly receipt of Environmental Impact Statements (EISs)

Filed 11/30/2015 Through 12/04/2015

Pursuant to 40 CFR 1506.9.

Notice

Section 309(a) of the Clean Air Act requires that EPA make public its comments on EISs issued by other Federal agencies. EPA's comment letters on EISs are available at: http://cdxnodengn.epa.gov/cdx-nepa-public/action/eis/search.

EIS No. 20150343, Draft, NPS, AZ, Backcountry Management Plan Grand Canyon National Park, Comment Period Ends: 02/29/2016, Contact: Rachel Bennett 928-638-7326.

EIS No. 20150344, Final, USFS, CA, Green-Horse Habitat Restoration and Maintenance Project, Review Period Ends: 01/25/2016, Contact: Jason Fallon 530-275-1587.

EIS No. 20150345, Final, FHWA, NC, US 70 Havelock Bypass, Review Period Ends: 01/11/2016, Contact: Clarence Coleman 919-747-7014.

EIS No. 20150346, Draft, OSM, TN, North Cumberland Wildlife Management Area, Tennessee Lands Unsuitable for Mining, Comment Period Ends: 01/25/2016, Contact: Earl Bandy 865-545-4103 ext. 130.

EIS No. 20150347, Final, FERC, CA, Merced River and Merced Falls Hydroelectric Projects, Review Period Ends: 01/11/2016, Contact: Matt Buhyoff 202-502-6824.

EIS No. 20150348, Final, Caltrans, CA, Centennial Corridor Project, Review Period Ends: 01/11/2016, Contact: Jennifer Taylor 888-404-6375.

EIS No. 20150349, Draft, USFWS, REG, National Wildlife Refuge System Revision of Regulations Governing Non-Federal Oil and Gas Activities, Comment Period Ends: 02/09/2016, Contact: Scott Covington 703-358-2427.

Amended Notices

EIS No. 20150207, Draft, DOE, NH, Northern Pass Transmission Line Project, Comment Period Ends: 04/04/2016, Contact: Brian Mills 202-586-8267; Revision to FR Notice Published 10/09/2015; Extending Comment Period from 12/31/2015 to 04/04/2016; Revision to the FR Notice published 11/27/2015; EIS No. 20150327 is hereby attached as an addendum to this Draft EIS.

EIS No. 20150277, Draft, USFS, WA, LeClerc Creek Grazing Allotment Management Planning, Comment Period Ends: 11/16/2015, Contact: Gayne Sears 509-447-7300; Revision to the FR Notice Published 10/30/2015; Extending Comment Period from 11/16/2015 to 12/16/2015.

EIS No. 20150302, Draft, NPS, WY, Moose-Wilson Corridor Draft Comprehensive Management Plan, Comment Period Ends: 01/30/2016, Contact: Chris Church 303-969-2276; Revision to the FR Notice Published 11/27/2015; Extending Comment Period from 01/15/2016 to 01/30/2016.

EIS No. 20150327, Draft Supplement, DOE, NH, Northern Pass Transmission Line Project, Contact: Brian Mills 202-586-8267; Revision to FR Notice Published 11/27/2015; This document was erroneously filed as a supplement and should be an addendum to the Draft EIS. Therefore, this addendum will be combined with Draft EIS No. 20150207 to become one document.

Dated: December 8, 2015.
Dawn Roberts,
Management Analyst, NEPA Compliance Division, Office of Federal Activities.

[FR Doc. 2015-31312 Filed 12-10-15; 8:45 am]

BILLING CODE 6560-50-P